DEPARTMENT OF TRANSPORTATION

National Highway Traffic Safety Administration (NHTSA)

Denial of Motor Vehicle Defect Petition

AGENCY: National Highway Traffic Safety Administration (NHTSA), Department of Transportation.

ACTION: Denial of petition to upgrade and expand the scope of a defect investigation.

SUMMARY: This notice sets forth the reasons for the denial of a petition submitted by Mr. Clarence Ditlow, dated July 22, 2002, to NHTSA under 49 U.S.C. § 30162, which requested an ongoing investigation (SQ01-014) be upgrade to an Engineering Analysis to determine whether a safety defect trend exists in Model Year (MY) 1992-2001 Ford Crown Victoria, Mercury Grand Marquis, and Lincoln Town Car vehicles. The petition also requested that the scope of the investigation be broadened to include all subject vehicle fuel-fed crashes regardless of the direction of the impact and to include vehicle-to-object impacts. After reviewing the petition and other information, NHTSA has concluded that further expenditure of the agency's investigative resources on the issues raised by the petition does not appear to be warranted. The agency accordingly denies the petition.

FOR FURTHER INFORMATION CONTACT: Mr. Frank Borris, Safety Defects Engineer, Vehicle Integrity Division, Office of Defects Investigation, NHTSA, 400 Seventh Street, SW., Washington, DC 20590. Telephone (202) 366-5202.

SUPPLEMENTARY INFORMATION: In a letter dated July 20, 2000, Clarence M. Ditlow, Executive Director of the Center for Auto Safety in Washington, DC, petitioned NHTSA to expand a then-pending investigation (SQ01-014) involving post-rear crash fires in certain Model Year (MY) 1992-2001 Ford Crown Victoria, Lincoln Town Car, and Mercury Grand Marquis vehicles. These are known as Panther Platform vehicles. The Office of Defects Investigation (ODI) opened a Service Query (SQ01-014) after reviewing a Technical Service Bulletin (TSB) (Ford Article 01-21-14) issued by Ford Motor Company (Ford). The TSB provides information and suggests modifications aimed at reducing the potential for post-rear crash fuel tank punctures in Ford's Panther Platform vehicles produced during MY 1992-2001.

Prior to the publication of the TSB, ODI received three letters from law enforcement organizations expressing concern or requesting an investigation into the potential for fuel leaks in Crown Victoria Police Interceptor (CVPI) vehicles following rear impact crashes. ODI requested additional information from one correspondent (National Troopers Coalition) and received summaries of 17 incidents alleging post-rear crash fires (PRCF) in CVPI vehicles from calendar year (CY) 1983 to 2001. The summaries included allegations of 11 deaths, of which 4 occurred during CY 2001. All the target vehicles involved were CVPIs, and 14 were within the scope of the TSB. It stands to reason that the majority of PRCF's would occur within the law enforcement population of Panther vehicles due to their use on highways where high-energy collisions are most likely to occur. Law enforcement officers routinely pull motorists to the shoulder area, exposing their vehicles to a greater risk of rear impact.

A search of ODI's consumer complaint database revealed one incident involving a MY 2000 CVPI that burst into flames following a high-energy rear impact. Fortunately, the officer escaped with relatively minor injuries.

Based on information available at the time of opening SQ01-014 indicating that each of the post-crash fires resulted from rear impacts, ODI limited the scope of its investigation to crashes where the initial impact point was between the 5 o'clock and 7 o'clock positions (with 12 o'clock representing the center of the front bumper). NHTSA requested information from Ford on all post-rear crash incidents resulting in fuel loss or fire in Panther Platform vehicles. A similar information request was sent to General Motors with respect to MY 1986-1996 Chevrolet B-Body (Caprice and Impala models) vehicles. The B-Body vehicles represent the closest comparative vehicle to the subject vehicles, since they have similar weight and dimensions, utilize a rear-mounted fuel tank, and were also used by law enforcement agencies.

ODI closed its investigation October 3, 2002, determining that further investigation would be unlikely to produce sufficient evidence to demonstrate the existence of a safety-related defect in the subject vehicles. To address assertions made by the petitioner and determine whether to grant the petition, ODI analyzed information produced during SQ01-014 and real-world crash data in NHTSA's Fatality Analysis Reporting System (FARS).

Analysis

To ascertain whether the Panther Platform vehicles have an elevated risk of fire following crashes (including high-energy crashes) compared to other sedans, ODI conducted searches of the FARS database for information on all MY 1992-2001 Panther vehicles and all other sedans (AOS) for fatal crashes involving fire. These searches included all impact locations and were executed both including police vehicles and excluding police vehicles. The risk of fire is expressed as a ratio of fires in fatal vehicles per total fatal vehicles. For the Ford Panther compared to AOS, with police vehicles included, the risk is identical at 0.033. Excluding police vehicles yields a ratio of 0.029 for the Ford Panther versus 0.033 for AOS. These results indicate that the subject vehicles are not over-represented with respect to the risk of fire in real-world high-energy crashes.

A further discussion of issues related to post-crash fires in Panther Platform vehicles is set out in the closing report for SQ01-014, which has been placed in the docket for this petition. It can be viewed at http://www.nhtsa.dot.gov/current/crownvic/index.htm.

Conclusion

According to the analysis of FARS data, the subject vehicles are not over-represented with respect to the risk of fire following a high-energy crash in all impact directions as alleged in the petition. In fact, the data show that the civilian population of Panther vehicles has an overall lower risk of post-crash fires than AOS when all impact points are considered.

After reviewing the petition and its supporting materials, as well as information furnished by Ford and GM, and information within the agency's possession from previous investigations and other related actions, NHTSA has concluded that further investigation concerning post-crash fires in the subject vehicles is not likely to lead to a decision that the vehicles contain a safety defect.

For the foregoing reasons, further expenditure of the agency's investigative resources on the allegation in the petition does not appear to be warranted. Therefore, the petition is denied.

Authority: 49 U.S.C. 30162(d); delegations of authority at 49 CFR 1.50 and 501.8.

Kenneth N. Weinstein,
Associate Administrator for Enforcement.

[FR Doc. 02-30735 Filed 12-3-02; 8:45 am]

BILLING CODE 4910-59-P